DEPARTMENT OF HEALTH AND HUMAN SERVICES

Office of the Assistant Secretary for Financial Resources, Office of Grants and Acquisition Policy and Accountability, Division of Acquisition; Public Availability of the Department of Health and Human Services FY 2011 Service Contract Inventory; Correction

AGENCY: Department of Health and Human Services.

ACTION: Notice of correction.

SUMMARY: This document makes changes to the notice published in the February 28, 2013 Federal Register entitled “Office of the Assistant Secretary for Financial Resources, Office of Grants and Acquisition Policy and Accountability, Division of Acquisition; Public Availability of the Department of Health and Human Services FY 2011 Service Contract Inventory.” The following should be changed: The notice provided an incorrect URL address: http://www.hhs.gov/grants/servicecontractsfy11.html. The correct URL address is as follows: http://www.hhs.gov/grants/servicecontracts/index.html. The FY 2011 needs to be changed to FY 2012 in the TITLE, ACTION, and SUMMARY sections. This document makes these technical corrections.

FOR FURTHER INFORMATION CONTACT: Lori Sakalos, (202) 690-6361.

SUPPLEMENTARY INFORMATION:

I. Background

In FR Doc. 2013-04719 of February 28, 2013 (78 FR 13677), there were technical errors that are identified and corrected in the Correction of Errors section below.

II. Summary of Errors

In the “SUMMARY” section, after “HHS has posted its inventory and a summary of the inventory on the HHS homepage at the following link:” We are deleting the following URL address: http://www.hhs.gov/grants/servicecontractsfy11.html.

Change the fiscal year to FY 2012—In the “TITLE” section—Office of the Assistant Secretary for Financial Resources, Office of Grants and Acquisition Policy and Accountability, Division of Acquisition; Public Availability of the Department of Health and Human Services FY 2011 Service Contract Inventory;

In the “ACTION” section—Notice Of Public Availability Of FY 2011 Service Contract Inventories;

In the “SUMMARY” section—In accordance with Section 743 of Division C of the Consolidated Appropriations Act of 2010 (Pub. L. 111-117), Department of Health and Human Services (HHS) is publishing this notice to advise the public of the availability of its FY 2011 Service Contract inventory. This inventory provides information on service contract actions over $25,000 that were made in FY 2011.

III. Correction of Errors

In FR Doc. 2013-04719 of February 28, 2013 (78 FR 13677), make the following corrections:

In the “SUMMARY” section, after “HHS has posted its inventory and a summary of the inventory on the HHS homepage at the following link:” The corrected URL should be: http://www.hhs.gov/grants/servicecontracts/index.html.

In the corrected “TITLE” section it should read: Office of the Assistant Secretary for Financial Resources, Office of Grants and Acquisition Policy and Accountability, Division of Acquisition; Public Availability of the Department of Health and Human Services FY 2012 Service Contract Inventory,

In the corrected “ACTION” section it should read: Notice Of Public Availability Of FY 2012 Service Contract Inventories;

In the corrected “SUMMARY” section it should read: In accordance with Section 743 of Division C of the Consolidated Appropriations Act of 2010 (Pub. L. 111-117), Department of Health and Human Services (HHS) is publishing this notice to advise the public of the availability of its FY 2012 Service Contract inventory. This inventory provides information on service contract actions over $25,000 that were made in FY 2012.

Dated: March 13, 2013.
Angela Billups,
Associate Deputy Assistant Secretary for Acquisition, Senior Procurement Executive, Assistant Secretary for Financial Resources Office of the Secretary.

[FR Doc. 2013-06218 Filed 3-18-13; 8:45 am]

BILLING CODE 4150-24-P